DEPARTMENT OF THE TREASURY

Office of Foreign Assets Control

Designation of Two (2) Entities Pursuant to Executive Order 13628 of October 9, 2012

AGENCY: Office of Foreign Assets Control, Treasury.

ACTION: Notice.

SUMMARY: The Treasury Department's Office of Foreign Assets Control (“OFAC”) is publishing the name of two (2) entities designated on May 30, 2013, as entities whose property and interests in property are blocked pursuant to Executive Order 13628 of October 9, 2012, “Authorizing the Implementation of Certain Sanctions Set Forth in the Iran Threat Reduction and Syria Human Rights Act of 2012 and Additional Sanctions With Respect to Iran.”

DATES: The designations by the Director of OFAC of the two (2) entities identified in this notice, pursuant to Executive Order 13628 of October 9, 2012, are effective May 30, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on demand service tel.: (202) 622-0077.

Background

On October 9, 2012, the President issued Executive Order 13628, “Authorizing the Implementation of Certain Sanctions Set Forth in the Iran Threat Reduction and Syria Human Rights Act of 2012 and Additional Sanctions With Respect to Iran” (the “Order”), pursuant to the International Emergency Economic Powers Act (50 U.S.C. 1701 et seq.), the National Emergencies Act (50 U.S.C. 1601 et seq.), the Iran Sanctions Act of 1996 (Pub. L. 104-172) (50 U.S.C. 1701 note), as amended, the Comprehensive Iran Sanctions, Accountability, and Divestment Act of 2010 (Pub. L. 111-195) (22 U.S.C. 8501 et seq.), as amended, the Iran Threat Reduction and Syria Human Rights Act of 2012 (Pub. L. 112-158), Section 212(f) of the Immigration and Nationality Act of 1952, as amended (8 U.S.C. 1182(f)), and Section 301 of title 3, United States Code.

Section 3 of the Order blocks, with certain exceptions, all property and interests in property that are in the United States, that come within the United States, or that are or come within the possession or control of any United States person, of persons determined by the Secretary of the Treasury, in consultation with or at the recommendation of the Secretary of State, to satisfy certain criteria set forth in the Order.

On May 30, 2013, the Director of OFAC, in consultation with or at the recommendation of the Secretary of State, designated, pursuant to Section 3 of the Order, two (2) entities whose names have been added to the list of Specially Designated Nationals and Blocked Persons and whose property and interests in property are blocked. The listing for these entities is below.

Entities

1. OFOGH SABERIN ENGINEERING DEVELOPMENT COMPANY (a.k.a. OFOGH TOSE-EH SABERIN ENGINEERING), Shahid Malek Lu Street, No. 86, Tehran, Iran [IRAN-TRA].

2. COMMITTEE TO DETERMINE INSTANCES OF CRIMINAL CONTENT (a.k.a. COMMISSION TO DETERMINE INSTANCES OF CRIMINAL CONTENT; a.k.a. COMMITTEE FOR DETERMINING EXAMPLES OF CRIMINAL WEB CONTENT; a.k.a. COMMITTEE IN CHARGE OF DETERMINING UNAUTHORIZED WEBSITES; a.k.a. WORKING GROUP FOR DETERMINING OFFENSIVE CONTENT; a.k.a. WORKING GROUP TO DETERMINE INSTANCES OF CRIMINAL CONTENT; a.k.a. WORKING GROUP TO DETERMINE INSTANCES ON ONLINE CRIMINAL CONTENT), Sure-Esrafil St, Tehran, Iran; Web site http://internet.ir [IRAN-TRA].

Dated: May 30, 2013.
Adam J. Szubin,
Director, Office of Foreign Assets Control.

[FR Doc. 2013-13671 Filed 6-7-13; 8:45 am]

BILLING CODE 4810-AL-P